FEDERAL COMMUNICATIONS COMMISSION

47 CFR Parts 0, 1, 2, 15, 27, 73, and 74

[GN Docket No. 12-268; Report No. 3011]

Petitions for Reconsideration of Action in Rulemaking Proceeding

AGENCY: Federal Communications Commission.

ACTION: Petition for reconsideration.

SUMMARY: In this document, Petitions for Reconsideration (Petitions) have been filed in the Commission's Rulemaking proceeding by Benjamin Perez, on behalf of Abacus Television, Stephen G. Perlman, on behalf of Artemis Networks, LLC, Ari Q. Fitzgerald, Esq., on behalf of GE Healthcare, Steven K. Berry, on behalf of Competitive Carriers Association, Louis Libin, on behalf of Advanced Television Broadcasting Alliance, Andrew W. Levin, on behalf of T-Mobile USA, Inc., Melodie A. Virtue, Esq., and Garvey Schubert Barer, on behalf of Beach TV Properties, Inc., and Free Access & Broadcast Telemedia, LLC, Jennifer Johnson, Esq., on behalf of Bonton Media Group, Inc., and Raycom Media, Inc., John R. Feore, Esq., on behalf of Block Communications, Inc. and FBC Television Affiliates Association, Eve Pogoriler, Esq., on behalf of Gannett Co., Inc., Graham Media Group, ICA Broadcasting, and the Dispatching Printing Company, Dean R. Brenner, on behalf of Qualicomm Incorporated, Gerard J. Waldron, Esq., on behalf of CBS Television Network Affiliates Association, and NBC Television Affiliates, Wade H. Hargrove, Esq., on behalf ABC Television Affiliates Associates Association, Donald G. Everist, on behalf of Cohen, Dippell and Everist, P.C., Dale Woodin, on behalf of the American Society for Healthcare Engineering of the American Hospital Association, Sally A. Buckman, Esq., on behalf Journal Broadcast Corporation, Margaret L. Tobey, on behalf NBC Telemundo License LLC, Mike Cavender, on behalf of Radio Television Digital News Association, Michael Gravino, on behalf of LPTV Spectrum Rights Coalition, Mitchell Lazarus, Esq., on behalf of Sennheiser Electronic Corporation, M. Anne Swanson, Esq., on behalf of Media General, Inc., Mace Rosenstein, Esq., on behalf of the Videohouse and Public Broadcasting Service, Inc., Lonna Thompson, on behalf of Association of Public Television Stations, J. Westwood Smithers, on behalf of Corporation for Public Broadcasting, Katherine Lauderdale, on behalf Public Broadcasting Service, A. Wray Fitch III, Esq., on behalf of American Legacy Foundation and Signal Above, LLC, Tom W. Davidson, Esq., on behalf of the Walt Disney Company, Paul J. Broyles, on behalf of International Broadcasting Network, Dean M. Mosely, on behalf U.S. Television, LLC, William H. Shawn, Esq., on behalf of Mako Communications, LLC., and Preston Padden, on behalf of Expanding Opportunities for Broadcasters Coalition.

DATES: Oppositions to the Petitions must be filed on or before November 12, 2014. Replies to an opposition must be filed on or before November 21, 2014.

ADDRESSES: Federal Communications Commission, 445 12th Street SW., Washington, DC 20554.

FOR FURTHER INFORMATION CONTACT: A.J. Glusman, Wireless Telecommunications Bureau, (202) 418-1425, email AJ.Glusman@fcc.gov.

SUPPLEMENTARY INFORMATION: This is a summary of Commission's document, Report No. 3011, released October 2, 2014. The full text of Report No. 3011 is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A) because this notice does not have an impact on any rules of particular applicability.

Subject: Expanding the Economic and Innovation Opportunities of Spectrum Through Incentive Auctions, published at 79 FR 48442, August 15, 2014, in GN Docket No. 12-268, and published pursuant to 47 CFR 1.429(e). See also 1.4(b)(1) if the Commission's rules.

Number of Petitions Filed: 31.

Federal Communications Commission.
Marlene H. Dortch,
Secretary. Office of the Secretary, Office of Managing Director.

[FR Doc. 2014-25456 Filed 10-24-14; 8:45 am]

BILLING CODE 6712-01-P